NUCLEAR REGULATORY COMMISSION

[NRC-2024-0037]

Draft NUREG: Event Report Guidelines

AGENCY: Nuclear Regulatory Commission.

ACTION: Draft report; request for comment.

SUMMARY: The U.S. Nuclear Regulatory Commission (NRC) is issuing for public comment draft NUREG-1022, Revision 3, Supplement 2, “Event Report Guidelines.” Draft NUREG-1022, Revision 3, Supplement 2, provides updated guidance for nuclear power reactor licensees and can be used for evaluating and reporting degraded or unanalyzed conditions as described in those regulations.

DATES: Submit comments by June 17, 2024. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2024-0037. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paul LaFlamme, Office of Nuclear Reactor Regulation, U.S. Nuclear Regulatory Commission, Washington, DC 20555-0001, telephone: 301-415-1184; email: Paul.LaFlamme@nrc.gov.

SUPPLEMENTARY INFORMATION:

I. Obtaining Information and Submitting Comments

A. Obtaining Information

Please refer to Docket ID NRC-2024-0037 when contacting the NRC about the availability of information for this action. You may obtain publicly available information related to this action by any of the following methods:

• Federal Rulemaking Website: Go to https://www.regulations.gov and search for Docket ID NRC-2024-0037.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft Supplement 2 of NUREG-1022, Revision 3, is available in ADAMS under Accession No. ML24102A280 and the regulatory analysis is available under ADAMS Accession No. ML24036A110.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0037 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

NUREG-1022, Revision 3, “Event Reporting Guidelines: 10 CFR 50.72 and 50.73,” issued January 2013 (ADAMS Accession No. ML13032A220), contains guidelines that the staff of the NRC considers acceptable for use in meeting the reporting requirements in section 50.72 of title 10 of the Code of Federal Regulations (10 CFR), “Immediate notification requirements for operating nuclear power reactors,” and 10 CFR 50.73, “Licensee event report system.” In August 2018, the Nuclear Energy Institute submitted a petition for rulemaking to amend 10 CFR 50.72 (ADAMS Accession No. ML18247A204). In 2021, the Commission directed the NRC staff to pursue the rulemaking (ADAMS Accession No. ML21209A953). As part of this rulemaking effort, the NRC determined that clarifications to the guidance in section 3.2.4, “Degraded or Unanalyzed Condition,” of NUREG 1022, Revision 3, could address part of the concerns identified in the petition.

In developing Supplement 2 to NUREG-1022, Revision 3, the NRC evaluated data on submitted and retracted events and held a public meeting on August 9, 2023 (ADAMS Accession No. ML23270B927), to discuss section 3.2.4 of NUREG-1022 with stakeholders. Supplement 2 would provide updated guidance for nuclear power reactor licensees and could be used for evaluating and reporting degraded or unanalyzed conditions as described in10 CFR 50.72(b)(3)(ii) and 10 CFR 50.73(a)(2)(ii). The specific guidance included in Supplement 2, once final, will supersede the guidance found in section 3.2.4 of NUREG-1022, Revision 3.

III. Backfitting, Forward Fitting, and Issue Finality

Issuance of NUREG-1022, Revision 3, Supplement 2, if finalized, would not constitute backfitting as defined in 10 CFR 50.109, “Backfitting,” and as described in NRC Management Directive (MD) 8.4, “Management of Backfitting, Forward Fitting, Issue Finality, and Information Requests”; affect issue finality of any approval issued under 10 CFR part 52, “Licenses, Certificates, and Approvals for Nuclear Power Plants”; or constitute forward fitting as defined in MD 8.4, because licensees would not be required to comply with the guidance in Supplement 2.

IV. Public Comments

This document requests comments from interested members of the public by June 17, 2024. After evaluating the comments received, the staff will either reconsider the proposed change or announce the availability of the change in a subsequent document published in the Federal Register (perhaps with some changes as a result of public comments).

Dated: April 12, 2024.
For the Nuclear Regulatory Commission.
Lisa Regner,
Chief, Generic Communication and Operating Experience Branch, Division of Reactor Oversight, Office of Nuclear Reactor Regulation.

[FR Doc. 2024-08179 Filed 4-16-24; 8:45 am]

BILLING CODE 7590-01-P